DEPARTMENT OF COMMERCE

National Oceanic and Atmospheric Administration

50 CFR Part 622

[I.D. 080502D]

Fisheries of the Caribbean, Gulf of Mexico, and South Atlantic; Reef Fish Resources of the Gulf of Mexico; Draft Amendment to the Fishery Management Plan (FMP) for the Reef Fish Resources of the Gulf of Mexico to Establish a Red Snapper Rebuilding Plan (Draft Red Snapper Rebuilding Amendment); Scoping Meetings

AGENCY: National Marine Fisheries Service (NMFS), National Oceanic and Atmospheric Administration (NOAA), Commerce.

ACTION: Notice of intent to prepare a draft supplemental environmental impact statement (DSEIS); notice of scoping meetings; request for comments.

SUMMARY: The Gulf of Mexico Fishery Management Council (Council) intends to prepare a DSEIS to describe and analyze management alternatives associated with establishing a red snapper rebuilding plan based on biomass-based stock rebuilding targets and thresholds. The red snapper rebuilding plan will be implemented through an amendment to the FMP for the Reef Fish Resources of the Gulf of Mexico. The purpose of this notice of intent is to solicit public comments on the scope of issues to be addressed in the DSEIS, which will be submitted to NMFS for filing with the Environmental Protection Agency (EPA) for publication of a notice of availability for public comment.

DATES: Written comments on the scope of issues to be addressed in the DSEIS must be received by the Council by September 18, 2002. A series of scoping meetings will be held late August through early October 2002. See SUPPLEMENTARY INFORMATION for specific dates and times.

ADDRESSES: Written comments on the scope of the DSEIS and requests for additional information on the Draft Red Snapper Rebuilding Amendment should be sent to the Gulf of Mexico Fishery Management Council, The Commons at Rivergate, 3018 U.S. Highway 301 North, Suite 1000, Tampa, FL 33619; telephone: 813-228-2815; fax: 813-225-7015. Comments may also be sent by e-mail to Peter.Hood@gulfcouncil.org.

Eight scoping meetings will be held throughout the Gulf, in the states of Texas, Louisiana, Mississippi, Alabama and Florida. See SUPPLEMENTARY INFORMATION for the specific locations, dates, and times of those meetings.

FOR FURTHER INFORMATION CONTACT: Peter Hood; phone: 813-228-2815; fax: 813-225-7015; e-mail: Peter.Hood@gulfcouncil.org or Phil Steele; phone: 727-570-5305; fax: 727-570-5583; e-mail: Phil.Steele@noaa.gov.

SUPPLEMENTARY INFORMATION: The Council is preparing to amend the FMP for the Reef Fish Resources of the Gulf of Mexico to establish a red snapper rebuilding plan that is based on biomass-based stock rebuilding targets and thresholds. The Council will develop a DSEIS to describe and analyze management alternatives considered in the Draft Red Snapper Rebuilding Amendment.

The DSEIS will evaluate biomass-based stock rebuilding targets and thresholds, and will consider various rebuilding schedules, consistent with the legal mandate provided by Section 304(e)(4) of the Magnuson-Stevens Fishery Conservation and Management Act (Magnuson-Stevens Act) to rebuild overfished stocks in as short a time period as possible, taking into account other factors, including the status and biology of the overfished stock and the needs of fishing communities. The DSEIS will also consider various alternatives to achieve the rebuilding goal based on a constant catch scenario and/or a constant fishing mortality rate scenario.

In an earlier version of the Draft Red Snapper Rebuilding Amendment (Draft Regulatory Amendment to the Reef Fish FMP to Set a Red Snapper Rebuilding Plan through 2032), the Council proposed a 31-year stepwise rebuilding strategy based on a combination of the constant catch and constant fishing mortality rate scenarios. That rebuilding strategy would maintain the current total allowable catch (TAC) quota set at 9.12 million lb (4.14 kg) under a constant catch scenario for years 2001-2005, with a minimum 40-percent bycatch reduction requirement. Thereafter, the rebuilding plan would shift to a constant fishing mortality rate strategy. In addition to annual monitoring to ensure quota compliance, the status of the stock would be reviewed every 5 years to evaluate the need for additional management measures. That strategy will be considered in the Draft Red Snapper Rebuilding Amendment, as will other strategies that may require immediate adjustments to existing management measures.

Management alternatives considered by the Council could include, but would not be limited to, adjustments to red snapper TAC quotas, minimum size limits, and bag limits, and changes to existing bycatch reduction requirements in the Gulf of Mexico shrimp fishery.

Written comments on the range of alternatives and scope of issues to be addressed in the DSEIS may be sent to the Council (see ADDRESSES). The Council has scheduled the following eight scoping meetings to provide the opportunity for additional public input:

1. Monday, August 26, 2002: Four Points Sheraton, 3777 North Expressway, Brownsville, TX (956-547-1500);

2. Tuesday, August 27, 2002: Palacios Recreation Center, 2401 Perryman, Palacios, TX (361-972-2387);

3. Wednesday, August 28, 2002: San Luis Resort, 5222 Seawall Boulevard, Galveston Island, TX (409-744-1500);

4. Monday, September 23, 2002: New Orleans Airport Hilton, 901 Airline Highway, Kenner, LA (504-469-5000);

5. Tuesday, September 24, 2002: Isle of Capri Casino Hotel, 151 Beach Boulevard, Biloxi, MS (228-436-8720);

6. Wednesday, September 25, 2002: Adams Mark Hotel, 64 South Water Street, Mobile, AL (251-438-4000);

7. Tuesday, October 1, 2002: Franklin County Courthouse, 33 Market Street, Apalachicola, FL (850-653-8861); and

8. Wednesday, October 2, 2002: Tampa Airport Hilton, 2225 Lois Avenue, Tampa, FL (813-877-6688).

At these scoping meetings, the Council will also take public comments on the DSEIS being developed to support proposed Amendment 13 to the FMP for the Shrimp Fishery of the Gulf of Mexico (Amendment 13). The notice of intent for that action can be found at Notice I.D. 080502E published in the Notices section of this issue of the Federal Register, and contains more information on the purpose and scope of Amendment 13, which would establish stock status determination criteria for managed shrimp stocks in the Gulf. Amendment 13 may also include, but would not be limited to, alternatives related to: (1) adding rock shrimp to the management unit of the shrimp FMP, (2) requiring endorsements for vessels harvesting rock shrimp and royal red shrimp in the exclusive economic zone (EEZ) of the Gulf of Mexico, (3) requiring vessel monitoring systems aboard shrimp trawl vessels fishing in or transiting all or some portions of the Gulf of Mexico EEZ, (4) improving bycatch reporting, and (5) further reducing bycatch in the shrimp fishery.

All scoping meetings will begin at 6 p.m. The first portion of each meeting will be allocated to taking public comments on proposed Amendment 13. Scoping for the Draft Red Snapper Rebuilding Amendment will commence immediately following the conclusion of public comments on Amendment 13. The meetings will be physically accessible to people with disabilities. Requests for sign language interpretation or other auxiliary aids should be directed to Peter Hood at the Council (see ADDRESSES).

Once the Council completes the DSEIS associated with the Draft Red Snapper Rebuilding Amendment, it will submit the document to NMFS for filing with the EPA. The EPA will publish a notice of availability of the DSEIS for public comment in the Federal Register. The DSEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council will consider public comments received on the DSEIS in developing the final supplemental environmental impact statement (FSEIS) and before adopting final management measures for the Red Snapper Rebuilding Amendment. The Council will submit both the final Amendment and the supporting FSEIS to NMFS for Secretary of Commerce review, approval, and implementation under the Magnuson-Stevens Act.

NMFS will announce, through a notice published in the Federal Register, the availability of the final Red Snapper Rebuilding Amendment for public review during the Secretarial review period. During Secretarial review, NMFS will also file the FSEIS with the EPA for a final 30-day public comment period. This comment period will be concurrent with the Secretarial review period and will end prior to final agency action to approve, disapprove, or partially approve the final Red Snapper Rebuilding Amendment.

NMFS will announce, through a notice published in the Federal Register, all public comment periods on the final Red Snapper Rebuilding Amendment, its proposed implementing regulations, and its associated FSEIS. NMFS will consider all public comments received during the public comment periods, whether they are on the final Amendment, the proposed regulations, or the FSEIS, prior to final agency action.

Dated: August 14, 2002.
Virginia M. Fay,
Acting Director, Office of Sustainable Fisheries, National Marine Fisheries Service.

[FR Doc. 02-21024 Filed 8-16-02; 8:45 am]

BILLING CODE 3510-22-S